DEPARTMENT OF DEFENSE

Department of the Army; Corps of Engineers

Board on Coastal Engineering Research

AGENCY: Department of the Army, DoD.

ACTION: Notice of advisory committee meeting.

SUMMARY: The Department of the Army is publishing this notice to announce the following Federal advisory committee meeting of the Board on Coastal Engineering Research (BCER). This meeting is open to the public.

DATES: The BCER will meet from 8:00 a.m. to 12:00 p.m. on March 28, 2023, Central Standard Time Zone (CST). The Executive Session of the Board will convene from 8:00 a.m. to 4:15 p.m. on March 29, 2023. All sessions are open to the public and are held in CST.

ADDRESSES: The address of all sessions is Hilton Garden Inn McCormick Place 123 E Cermak Rd., Suite 300, Chicago, Il 60616.

FOR FURTHER INFORMATION CONTACT: Dr. Julie Dean Rosati, the Board's Designated Federal Officer (DFO), (202) 761-1850 (Voice), Julie.D.Rosati@usace.army.mil (email). Mailing address is Board on Coastal Engineering Research, U.S. Army Engineer Research and Development Center, Waterways Experiment Station, Coastal and Hydraulics Laboratory, 3909 Halls Ferry Road, Vicksburg, MS 39180-6199. Website: https://www.erdc.usace.army.mil/Locations/CHL/CERB/ The most up-to-date changes to the meeting agenda can be found on the website.

SUPPLEMENTARY INFORMATION: The meeting is being held under the provisions of the Federal Advisory Committee Act (FACA) (Title 5 United States Code (U.S.C.), Appendix), the Government in the Sunshine Act (5 U.S.C. 552b), and title 41 Code of Federal Regulations (CFR), sections 102-3.140 and 102-3.150.

Purpose of the Meeting: The Board's mission is to provide broad policy guidance and review and develop research plans and projects in consonance with the needs of the coastal engineering field and the objectives of the U.S. Army Chief of Engineers. The objective of this meeting is to identify coastal research needs and address Environmental Justice and Non-Structural Solutions.

Agenda: Starting Tuesday morning March 28, 2023, at 8:00 a.m. the Board will be called to order with an opening presentation on the USACE Planning Process and USACE Strategic Focus Areas. Following this, the Coastal Working Group (CWG) will provide an update ongoing initiatives and R&D needs related to the meeting objective.

Afterwards, a panel presentation entitled “Great Lakes Coastal Processes and Projects” will begin. Presentations include Overview of Great Lakes Regional Coastal Setting and Coastal Resiliency Mega-Study and; Great Lakes Project Needs. The meeting will then adjourn for the day.

The Board will meet in Executive Session to discuss ongoing initiatives, future actions, and hear more panel presentations on Wednesday, March 29, 2023, from 8:30 a.m. to 4:15 p.m. After an overview of previous day topics, a panel session entitled “Ongoing Research, Needs and Gaps” will begin. Presentations include: National Coastal Environmental Justice/Non-Structural Successes and Gaps; International Approaches to Equitable Watershed Planning Solutions; and USACE Environmental Justice Successes, Ongoing Work, and Gaps. Updates on BCER initiatives will be given followed by on update on current board action items. Afterwards, the board will discuss meeting logistics for the next annual session and give final comments.

Meeting Accessibility: Pursuant to 5 U.S.C. 552b, as amended, and 41 CFR 102-3.140 through 102-3.165, and subject to space availability, the meeting is open to the public both in-person and virtually. Because seating capacity is limited, advance registration is required. For registration requirements please see below. Persons desiring to participate in the meeting online or by phone are required to submit their name, organization, email, and telephone contact information to Ms. Tanita Warren at Tanita.S.Warren@usace.army.mil no later than Friday, March 24, 2023. Specific instructions for virtual meeting participation, will be provided by reply email.

Oral participation by the public is scheduled for 2:45 p.m. on Wednesday, March 29, 2023. For additional information about public access procedures, please contact Dr. Julie Dean Rosati, the Board's DFO, at the email address or telephone number listed in the FOR FURTHER INFORMATION CONTACT section.

Registration: It is encouraged for individuals who wish to attend the meeting of the Board to register with the DFO by email, the preferred method of contact, no later than March 24, 2023, using the electronic mail contact information found in the FOR FURTHER INFORMATION CONTACT section. The communication should include the registrant's full name, title, affiliation or employer, email address, and daytime phone number. If applicable, include written comments or statements with the registration email.

Written Comments and Statements: In accordance with section 10(a)(3) of the FACA and Title 41 CFR 102-3.015(j) and 102-3.140, the public or interested organizations may submit written comments or statements to the Board, in response to the stated agenda of the open meeting or in regard to the Board's mission in general. Written comments or statements should be submitted to Dr. Julie Dean Rosati, DFO, via electronic mail, the preferred mode of submission, at the address listed in the FOR FURTHER INFORMATION CONTACT section. Each page of the comment or statement must include the author's name, title or affiliation, address, and daytime phone number. The DFO will review all submitted written comments or statements and provide them to members of the Board for their consideration. Written comments or statements being submitted in response to the agenda set forth in this notice must be received by the DFO at least five business days prior to the meeting to be considered by the Board. The DFO will review all timely submitted written comments or statements with the Board Chairperson and ensure the comments are provided to all members of the Board before the meeting. Written comments or statements received after this date may not be provided to the Board until its next meeting.

Verbal Comments: Pursuant to 41 CFR 102-3.140d, the Board is not obligated to allow a member of the public to speak or otherwise address the Board during the meeting. Members of the public will be permitted to make verbal comments during the Board meeting only at the time and in the manner described below. If a member of the public is interested in making a verbal comment at the open meeting, that individual must submit a request, with a brief statement of the subject matter to be addressed by the comment, at least five business days in advance to the Board's DFO, via electronic mail, the preferred mode of submission, at the address listed in the FOR FURTHER INFORMATION CONTACT section. The DFO will log each request, in the order received, and in consultation with the Board Chair, determine whether the subject matter of each comment is relevant to the Board's mission and/or the topics to be addressed in this public meeting. A 30-minute period near the end of the meeting will be available for verbal public comments. Members of the public who have requested to make a verbal comment, and whose comments have been deemed relevant under the process described above, will be allotted no more than five minutes during this period, and will be invited to speak in the order in which their requests were received by the DFO.

David B. Olson,
Federal Register Liaison Officer, Corps of Engineers.

[FR Doc. 2023-04524 Filed 3-3-23; 8:45 am]

BILLING CODE 3720-58-P